Proclamation 7645 of January 31, 2003

National African American History Month, 2003

By the President of the United States of America

A Proclamation

African Americans have played central roles in some of the most triumphant and courageous moments in our Nation's history. During National African American History Month, we honor the rich heritage of African Americans and pay tribute to their many contributions to our Nation. As we celebrate this year's theme, “The Souls of Black Folk: Centennial Reflections,” we remember the successes and challenges of our past. We also resolve to honor the achievements and legacy of these proud citizens by continuing to improve our society so that it fully lives up to our founding ideals.

In 1915, Dr. Carter Godwin Woodson recognized the need for our country to gain a more complete and informed understanding of our past. He founded the Association for the Study of Negro Life and History and established the first Negro History Week to emphasize that “We have a wonderful history behind us . . . “ Through the pioneering efforts of Dr. Woodson and the hard work of the Association, this observance officially became Black History Month in 1976.

For generations, African Americans have strengthened our Nation by urging reforms, overcoming obstacles, and breaking down barriers. We see the greatness of America in those who have risen above injustice and enriched our society, a greatness reflected in the resolve of Jackie Robinson, the intellect of W.E.B. DuBois, and the talent of Louis Armstrong. We also gain a deeper appreciation for the African-American experience in the writings of James Baldwin, Ralph Ellison, and Zora Neal Hurston, as well as in the music of Mahalia Jackson, Billie Holiday, Duke Ellington, and countless others.

African Americans reflect a proud legacy of courage and dedication that has helped to guide our Nation's success and prosperity. Visionary leaders like Frederick Douglass, Thurgood Marshall, and Martin Luther King, Jr., possessed a clarity of purpose and were instrumental in exposing and addressing the issues that threatened our founding principles. The battle for freedom, equality, and opportunity was fought on the front lines by strong figures such as Harriet Tubman and Fannie Lou Hamer, as well as many other everyday heroes who helped to lead this Nation to a more hopeful and just society.

As we recall these remarkable individuals, we also recognize that, despite our progress, racial prejudice still exists in America. As a Nation and as individuals, we must be vigilant in responding to discrimination wherever we find it. By promoting diversity, understanding, and opportunity, we will continue our efforts to build a society where every person, of every race, can realize the promise of America.

This month, I encourage all citizens to gain awareness of and appreciation for African-American history. As we remember this important part of our Nation's past, we look to a bright future, recognizing the potential of an America united in purpose, guided by spirit, and dedicated to equality.

NOW, THEREFORE, I, GEORGE W. BUSH, President of the United States of America, by virtue of the authority vested in me by the Constitution and laws of the United States, do hereby proclaim February 2003 as National African American History Month. I call upon public officials, educators, librarians, and all of the people of the United States to observe this month with appropriate programs and activities that highlight and honor the myriad of contributions that African Americans have made to our Nation.

IN WITNESS WHEREOF, I have hereunto set my hand this thirty-first day of January, in the year of our Lord two thousand three, and of the Independence of the United States of America the two hundred and twenty-seventh.

B

[FR Doc. 03-3007

Filed 2-4-03; 11:04 am]

Billing code 3195-01-P